DEPARTMENT OF ENERGY

Federal Energy Regulatory Commission

[Docket No. EL08-87-000]

Electric Power Supply Association; Notice of Petition

September 8, 2008.

Take notice that on September 2, 2008, the Electric Power Supply Association filed a petition pursuant to Rule 207 of the Commission's Rules of Practice and Procedure (18 CFR 385.207) requesting guidance with respect to the question of when investments in publicly-held companies will be deemed to convey “control” or to result in “affiliation” for purposes of the Commission's market-based rate requirements under section 205 of the Federal Power Act (16 U.S.C. 824d) and the requirements of section 203 of the Federal Power Act (16 U.S.C. 824b) and the Commission's regulations thereunder.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Motions to intervene and protests must be served on the petitioner.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 30, 2008.

Kimberly D. Bose,
Secretary.

[FR Doc. E8-21390 Filed 9-12-08; 8:45 am]

BILLING CODE 6717-01-P